ENVIRONMENTAL PROTECTION AGENCY

40 CFR Part 80

[EPA-HQ-OAR-2005-0170 FRL-8167-4]

Regulation of Fuels and Fuel Additives: Removal of Reformulated Gasoline Oxygen Content Requirement and Revision of Commingling Prohibition To Address Non-Oxygenated Reformulated Gasoline; Partial Withdrawal; Correction

AGENCY: Environmental Protection Agency (EPA).

ACTION: Partial withdrawal of direct final rule; correction.

SUMMARY: On February 22, 2006, the EPA issued a direct final rule for the removal of the reformulated gasoline (RFG) oxygen content requirement and the revision of the RFG commingling prohibition to address non-oxygenated reformulated gasoline. We stated in the direct final rule that if we received adverse comment by March 24, 2006, EPA would publish a timely withdrawal notice in the Federal Register informing the public that the portions of the rule on which adverse comment were received were withdrawn. We subsequently received adverse comment on the provisions designed to remove the oxygen content requirement for RFG and are, therefore, withdrawing those provisions. We will address the adverse comment in a subsequent final action based on the parallel proposal published on February 22, 2006 (71 FR 9070). As stated in the parallel proposal, we will not institute a second comment period on this action. The portions of the direct final rule that are not withdrawn (i.e., provisions relating to the commingling prohibition) will become effective on May 5, 2006. We are also making one correction to the amendatory language in the February 22, 2006 direct final rule.

DATES: Effective Date: As of May 5, 2006, EPA withdraws the amendments to the following sections in 40 CFR part 80, published on February 22, 2006 (71 FR 8973): Sections 80.2, 80.41, 80.65, 80.67, 80.68, 80.69, 80.73, 80.74, 80.75, 80.76, 80.77, 80.78(a)(1)(ii), 80.78(a)(11)(iv), 80.79(c)(1), 80.81, 80.125, 80.126, 80.128, 80.129, 80.130, 80.133, 80.134.

The correction to the direct final rule published in the Federal Register on February 22, 2006 (71 FR 8973), described in the SUPPLEMENTARY INFORMATION section, is effective on May 5, 2006.

FOR FURTHER INFORMATION CONTACT: Marilyn Bennett, Transportation and Regional Programs Division, Office of Transportation and Air Quality, U.S. Environmental Protection Agency, 1200 Pennsylvania Avenue, NW., (6406J), Washington, DC 20460; telephone: (202) 343-9624; fax: (202) 343-2803, e-mail address: bennett.marilyn@epa.gov.

SUPPLEMENTARY INFORMATION:

I. Partial Withdrawal of Direct Final Rule

EPA published a direct final rule for the removal of the RFG oxygen content requirement and revision of the commingling prohibition to address non-oxygenated reformulated gasoline on February 22, 2006 (71 FR 8973), and a parallel notice of proposed rulemaking (71 FR 9070) also on February 22, 2006. The direct final rule stated that if EPA received adverse comment by March 24, 2006, EPA would publish a timely notice in the Federal Register informing the public that the portions of the rule on which adverse comment were received were withdrawn. We subsequently received adverse comment on the provisions designed to remove the RFG oxygen content requirement. Because EPA received adverse comment, we are withdrawing the following amendments to 40 CFR part 80 that were in the direct final rule and which relate to the removal of the RFG oxygen content requirement and associated compliance requirements:

§ 80.2(ii) (definition of reformulated gasoline credit);

§ 80.41(e), (f), (o) (q) heading and introductory text, and (q)(1) (standards and requirements for compliance);

§ 80.65 heading, and paragraphs (c)(1)(ii) and (iii), (c)(2), (c)(3), (d)(2)(vi), (d)(2)(v)(D), (d)(3) and (h) (general requirement for refiners and importers);

§ 80.67(a)(1), (a)(2)(i)(A), (b)(3), (f), (g) introductory text, (g)(3), (g)(5) introductory text, (g)(5)(i), (g)(6) introductory text, (g)(6)(i), (h)(1) introductory text, (h)(1)(iv), (v), (vi), (vii), and (viii), and (h)(3)(ii) (compliance on average);

§ 80.68(a) introductory text, (a)(3), (b) introductory text, (b)(4)(i) and (ii), (c)(3), (c)(4)(i), (c)(12), and (c)(13)(v)(L) (compliance surveys);

§ 80.69(a)(6)(ii), (iii) and (iv), (a)(8), (a)(9), (a)(10) introductory text, (b), (c), (d), and (e) (requirements for downstream oxygenate blending);

§ 80.73 introductory text (inability to produce conforming gasoline in extraordinary circumstances);

§ 80.74(c) heading and introductory text, (c)(2), and (d) introductory text (recordkeeping requirements);

§ 80.75 introductory text, (a) introductory text, (a)(2)(vii), (f), (h), (i), (l), (m) and (n)(2) (reporting requirements);

§ 80.76(a) (registration of refiners, importers or oxygenate blenders);

§ 80.77(g)(2)(ii) and (i)(1) (product transfer documentation);

§ 80.78(a)(1)(ii) and (a)(11)(iv) (controls and prohibitions on reformulated gasoline);

§ 80.79(c)(1) (liability for violations of the prohibited activities);

§ 80.81(b)(1) and (b)(2) (enforcement exemptions for California gasoline);

§ 80.125(a), (c) and (d) introductory text (attest engagements);

§ 80.126(b) (definition of credit trading records);

§ 80.128(e)(2) (alternative agreed upon procedures for refiners and importers);

§ 80.129 (alternative agreed upon procedures for oxygenate blenders);

§ 80.130(a) (agreed upon procedures reports);

§ 80.133(h)(1) and (h)(4) (agreed upon procedures for refiners and importers); and

§ 80.134 (agreed upon procedures for downstream oxygenate blenders).

EPA published a parallel proposed rule on the same day as the direct final rule. We will address the adverse comment on the above-listed sections in a subsequent final action based on the parallel proposal. As stated in the parallel proposal, we will not institute a second comment period on this action.

The provisions of the direct final rule on which we did not receive adverse comment will become effective on May 5, 2006, as provided in the February 22, 2006 direct final rule.

II. Partial Withdrawal and Correction

PART 80—[AMENDED]

For the reasons set forth above, the amendments to §§ 80.2, 80.41, 80.65, 80.67, 80.68, 80.69, 80.73, 80.74, 80.75, 80.76, 80.77, 80.78(a)(1)(ii), 80.78(a)(11)(iv), 80.79(c)(1), 80.81, 80.125, 80.126, 80.128, 80.129, 80.130, 80.133, 80.134, published on February 22, 2006 (71 FR 8973) are withdrawn.

In addition, the following correction to FR Doc. 06-1612 appearing on page 8973 in the Federal Register of Wednesday, February 22, 2006, is made:

PART 80—[CORRECTED]

§ 80.79 [Corrected]

On page 8985, in the second column, in § 80.79 Liability for violations of the prohibited activities, in amendment 14, the instruction “Section 80.79 is amended by adding paragraph (a)(5) and revising paragraph (c)(1) to read as follows:” is corrected to read “Section 80.79 is amended by revising paragraphs (a)(5) and (c)(1) to read as follows:”

Dated: May 1, 2006.
William L. Wehrum,
Acting Assistant Administrator, Office of Air and Radiation.

[FR Doc. 06-4253 Filed 5-4-06; 8:45 am]

BILLING CODE 6560-50-P